FEDERAL ELECTION COMMISSION

Sunshine Act Meeting

TIME AND DATE: Thursday, June 24, 2021 at 10:00 a.m.

PLACE: Virtual meeting. Note: Because of the Covid-19 pandemic, we will conduct the open meeting virtually. If you would like to access the meeting, see the instructions below.

STATUS: This meeting will be open to the public. To access the virtual meeting, go to the commission's website www.fec.gov and click on the banner to be taken to the meeting page.

MATTERS TO BE CONSIDERED:

Draft Advisory Opinion 2021-06: Representative Robin Kelly and the Democratic Party of Illinois

Motion to Amend Directive 68 to Include Additional Information in Quarterly Status Reports to Commission

Proposed Statement of Policy Regarding the Disclosure of Vote Certifications Relating to Litigation

Management and Administrative Matters

CONTACT PERSON FOR MORE INFORMATION: Judith Ingram, Press Officer, Telephone: (202) 694-1220.

Authority: Government in the Sunshine Act, 5 U.S.C. 552b.

Laura E. Sinram,
Acting Secretary and Clerk of the Commission.

[FR Doc. 2021-13234 Filed 6-21-21; 11:15 am]

BILLING CODE 6715-01-P